NATIONAL FOUNDATION ON THE ARTS AND THE HUMANITIES

Sunshine Act Meeting of the National Museum Service Board

AGENCY: Institute of Museum and Library Services.

ACTION: Notice of meeting.

SUMMARY: This notice sets forth the agenda of a forthcoming meeting of the National Museum Services Board. This notice also describes the function of the board. Notice of this meeting is required under the Sunshine in Government Act and regulations of the Institute of Museum and Library Services, 45 CFR 1180.84.

TIME/DATE: 9 a.m.-12:30 p.m. on Saturday, May 17, 2003.

STATUS: Open.

ADDRESSES: Portland Art Museum, Board Room, 1219 S.W. Park Avenue (Hoffman Entrance), Portland, OR, (503) 226-2811.

FOR FURTHER INFORMATION CONTACT: Elizabeth Lyons, Special Assistant to the Director, Institute of Museum and Library Services, 1100 Pennsylvania Avenue, NW., Room 510, Washington, DC 20506, (202) 606-4649.

SUPPLEMENTARY INFORMATION: The National Museum Services Board is established under the Museum Services Act, Title II of the Arts, Humanities, and Cultural Affairs Act of 1976, Pub. L. 94-462. The board has responsibility for the general policies with respect to the powers, duties, and authorities vested in the Institute under the Museum Services Act.

The meeting on Saturday, May 17, 2003 will be open to the public. If you need special accommodations due to a disability, please contact: Institute of Museum and Library Services, 1100 Pennsylvania Avenue, NW., Washington, DC 20506—(202) 606-8536—TDD (202) 606-8636 at least seven (7) days prior to the meeting date.

Agenda

87th Meeting of the National Museum Services Board at Portland Art Museum, Board Room, 1219 SW. Park Avenue (Hoffman Entrance), Portland, OR

Saturday, May 17, 2003.

9 a.m.-12:30 p.m.

I. Chairperson's Welcome

II. Approval of Minutes from the 86th NMSB Meeting

III. Director's Welcome and Remarks

IV. Staff Updates

V. Museums and Technology: Where We Are

Presentations by:

Maxwell Anderson, Director and CEO, Whitney Museum of American Art

Rob Semper of Exploratorium

VI. Board Discussion

VII. Closing Remarks

Dated: April 29, 2003.
Teresa LaHaie,
Administrative Officer, National Foundation on the Arts and Humanities, Institute of Museum and Library Services.

[FR Doc. 03-11082 Filed 4-30-03; 3:54 pm]

BILLING CODE 7036-01-M